DEPARTMENT OF JUSTICE

Notice of Lodging of Consent Decree Pursuant to the Comprehensive Environmental Response, Compensation, and Liability Act and Federal Water Pollution Control Act

Notice is hereby given that, consistent with the policy of Section 122(d)(2) of CERCLA, 42 U.S.C. 9622(d)(2), and 28 C.F.R. 50.7, a proposed Partial Consent Decree (the “Decree”) in United States v. ASARCO, et al., Civil Action No. 96-0122-N-EJL was lodged on December 28, 2000, with the United States District Court for the District of Idaho. The Decree resolves claims by the United States and the Coeur d'Alene Tribe (the “Tribe”) against two of the seven named defendants in this action, Sunshine Mining and Refining Company and Sunshine Precious Metals, Inc. (collectively “the Sunshine defendants”), and potential claims against two of their non-defendant affiliates, Sunshine Argentina, Inc., and Sunshine Exploration, Inc.

The United States' Second Amended Complaint in this action alleges that the Sunshine defendants and other mining companies, including ASARCO, Inc., Hecla Mining Co., Coeur d'Alene Mines, Inc., and Callahan Mining Co., are liable for past and future response costs and natural resource damages at the Bunker Hill Superfund Facility (the “Facility”) in the Coeur d'Alene Basin (the “Basin”) or northern Idaho, under Section 107 of the Comprehensive Environmental Response, Compensation, and Liability Act of 1980 (“CERCLA”), 42 U.S.C. 9607, and Section 311(f) of the Federal Water Pollution Control Act (the “Clean Water Act”), 33 U.S.C. 1321(f). Trial on liability, natural resource injury, and causation issues is scheduled to begin on January 22, 2001. On August 23, 2000, however, the Sunshine defendants, Sunshine Argentina, and Sunshine Exploration (collectively “Sunshine entities”) filed petitions in the United States Bankruptcy Court for the District of Delaware for recorganization under Chapter 11 of the Bankruptcy Code. The proposed Decree both resolves the claims pending against the Sunshine defendants in the ASARCO litigation in Idaho and, when approved by the U.S. District Court, allows the Sunshine entities' Chapter 11 reorganization plan to become effective.

Under the proposed Decree, the Sunshine defendants will (1) impose conservation easements on certain environmentally-sensitive timberlands in the Basin and convey title to those lands to an independent trustee, who will later convey title to the United States or the Tribe as they jointly decide; (2) pay royalties to the United States and the Tribe on all mining revenues from the Sunshine defendants' properties in the Basin, at rates tied to the market price of silver; (3) issue to the United States and the Tribe warrants convertible into 9.95 percent of the reorganized Sunshine Mining's stock; and (4) perform certain clean up work at the closed mill structure at the Silver Summit Mine Site owned by Sunshine. The Decree reserves claims by the United States and the tribe for, among other things, response actions on property in the Basin that the Sunshine entities will continue to own.

The Department of Justice will receive comments relating to the proposed Decree until January 11, 2001. This period for comments has been limited in order to allow the parties to seek District Court approval of the Decree before the scheduled start of trial on January 22, 2001. Comments should be addressed to the Assistant Attorney General for the Environment and Natural Resources Division, Department of Justice, 950 Pennsylvania Avenue, NW., Washington, DC 20530, and should refer to United States v. ASARCO, DOJ Ref. #90-11-3-128/2. Commenters may request an opportunity for a public meeting in the affected area, in accordance with Section 7003(d) of RCRA, 42 U.S.C. § 6973(d).

The proposed Decree may be examined at the office of the United States Attorney, District of Idaho, 877 W. Main, Suite 201, Boise, Idaho 83702 (208) 334-1211; and the Region X Office of the Environmental Protection Agency, 1200 Sixth Avenue, Seattle, Washington, 98101. A copy of the proposed Decree may also be obtained by mail from the Consent Decree Library, P.O. Box 7611, Washington, DC 20044, or by telephonic request to Mr. Joe Davis at (202) 616-7940. In requesting a copy of the Consent Decree, please refer to the referenced case and enclose a check in the amount of $13.50 (25 cents per page reproduction costs), payable to the Consent Decree Library.

Bruce S. Gelber,
Chief, Environmental Enforcement Section, Environment and Natural Resources Division.

[FR Doc. 01-56 Filed 1-2-01; 8:45 am]

BILLING CODE 4410-15-M